DEPARTMENT OF HOMELAND SECURITY

Coast Guard

[USCG-2003-15649]

National Offshore Safety Advisory Committee; Vacancies

AGENCY: Coast Guard, DHS.

ACTION: Request for applications.

SUMMARY: The Coast Guard seeks applications for membership on the National Offshore Safety Advisory Committee (NOSAC). NOSAC provides advice and makes recommendations to the Coast Guard on matters affecting the offshore industry.

DATES: Application forms should reach us on or before September 30, 2003.

ADDRESSES: You may request an application form by writing to Commandant (G-MSO-2), U.S. Coast Guard, 2100 Second Street SW., Washington, DC 20593-0001; by calling 202-267-1181; or by faxing 202-267-4570. A copy of the application form is available from the Coast Guard's Advisory Committee Web page at: http://www.uscg.mil/hq/g-m/advisory/index.htm Send your application in written form to the above street address. This notice is available on the Internet at http://dms.dot.gov.

FOR FURTHER INFORMATION CONTACT: Captain D. L. Scott, Executive Director of NOSAC, or James M. Magill, Assistant to the Executive Director, telephone 202 267-1181, fax 202-267-4570.

SUPPLEMENTARY INFORMATION: NOSAC is a Federal advisory committee under 5 U.S.C. App. 2 (Pub. L. 92-463, 86 Stat. 770, as amended). It consists of 14 regular members who have particular knowledge and experience regarding offshore technology, equipment, safety and training and environmental expertise in the exploration or recovery of offshore mineral resources. It provides advice and makes recommendations to the Assistant Commandant for Marine Safety, Security and Environmental Protection on safety, security and rulemaking matters relating to the offshore mineral and energy industries. This advice assists us in formulating the positions of the United States in advance of meetings of the International Maritime Organization.

NOSAC meets twice a year, with one of these meetings being held at Coast Guard Headquarters in Washington, DC. It may also meet for extraordinary purposes. Its subcommittees and working groups may meet to consider specific problems as required.

We will consider applications received in response to this notice for three positions that expire or become vacant in January 2004. Applications should reach us by September 30, 2003, but we will consider applications received later if they arrive before we make our recommendations to the Secretary of Homeland Security.

To be eligible, applicants should have experience in one of the following categories: (1) Offshore operations, (2) diving services, or (3) pipelaying services. Please state on the application form which of the three categories you are applying for. Each member normally serves a term of 3 years or until a replacement is appointed. A few members may serve consecutive terms. All members serve at their own expense and receive no salary, reimbursement of travel expenses, or other compensation from the Federal Government.

In support of the policy of the Coast Guard on gender and ethnic diversity, we encourage qualified women and members of minority groups to apply.

If you are selected as a member who represents the general public, we will require you to complete a Confidential Financial Disclosure Report (OGE Form 450). We may not release the report or the information in it to the public, except under an order issued by a Federal court or as otherwise provided under the Privacy Act (5 U.S.C. 552a).

Dated: July 14, 2003.
J.G. Lantz,
Acting Director of Standards, Marine Safety, Security and Environmental Protection.

[FR Doc. 03-18520 Filed 7-21-03; 8:45 am]

BILLING CODE 4910-15-P